SURFACE TRANSPORTATION BOARD

49 CFR Part 1039

[Docket No. EP 704 (Sub-No. 1)]

Review of Commodity, Boxcar, and TOFC/COFC Exemptions

AGENCY: Surface Transportation Board.

ACTION: Request for comment in rulemaking proceeding.

SUMMARY: The Surface Transportation Board (Board or STB) seeks public comment on a new approach its Office of Economics has developed for possible use in considering class exemption and revocation issues.

DATES: Initial comments are due on or before December 4, 2020. Replies to initial comments are due on or before January 4, 2021.

ADDRESSES: Comments and replies may be filed with the Board via e-filing and will be posted to the Board's website at www.stb.gov.

FOR FURTHER INFORMATION CONTACT: Amy Ziehm at (202) 245-0391. Assistance for the hearing impaired is available through Federal Relay Service at (800) 877-8339.

SUPPLEMENTARY INFORMATION: On March 23, 2016, the Board issued a notice of proposed rulemaking seeking public comment on its proposal to revoke the existing class exemptions under 49 CFR part 1039 for (1) crushed or broken stone or rip rap; (2) hydraulic cement; (3) coke produced from coal; (4) primary iron or steel products; and (5) iron or steel scrap, wastes, or tailings. Review of Commodity, Boxcar & TOFC/COFC Exemptions (NPRM), EP 704 (Sub-No. 1) (STB served Mar. 23, 2016) (with Board Member Begeman dissenting). The NPRM also invited interested parties to file comments regarding the possible revocation of other commodity class exemptions. On March 19, 2019, to permit informal discussions with interested parties, the Board waived the general prohibition on ex parte communications in effect when the proceeding was initiated. Review of Commodity, Boxcar & TOFC/COFC Exemptions, EP 704 (Sub-No. 1) (STB served Mar. 19, 2019). Following the feedback received during the course of this proceeding, the Board's Office of Economics has developed an approach for possible use in considering class exemption and revocation issues. The Board requests that interested parties submit comments on the approach.

Additional information is contained in the Board's decision, available at www.stb.gov.

Authority: 49 U.S.C. 10502 and 13301.

List of Subjects in 49 CFR Part 1039

Agricultural commodities, Intermodal transportation, Railroads.

Decided: September 29, 2020.
By the Board, Board Members Begeman, Fuchs, and Oberman.
Aretha Laws-Byrum,
Clearance Clerk.

[FR Doc. 2020-21925 Filed 10-2-20; 8:45 am]

BILLING CODE 4915-01-P